ENVIRONMENTAL PROTECTION AGENCY

[EPA-R05-OAR-2017-0212; FRL-9970-15-Region 5]

Adequacy Status of the Kenosha County, Wisconsin Area for Submitted 8-Hour Ozone Attainment Demonstration for Transportation Conformity Purposes

AGENCY: Environmental Protection Agency (EPA).

ACTION: Notice of adequacy.

SUMMARY: In this notice, the Environmental Protection Agency (EPA) is notifying the public that we find that the motor vehicle emissions budgets (MVEBs) for volatile organic compounds (VOCs) and oxides of nitrogen (NOX) in the Kenosha County, Wisconsin ozone nonattainment area are adequate for use in transportation conformity determinations. Wisconsin submitted an Attainment Demonstration for Kenosha County on April 17, 2017. As a result of our finding, this area must use these MVEBs from the submitted Attainment Demonstration for future transportation conformity determinations.

DATES: This finding is effective November 15, 2017.

FOR FURTHER INFORMATION CONTACT: Michael Leslie, Environmental Engineer, Control Strategies Section (AR-18J), Air Programs Branch, Air and Radiation Division, United States Environmental Protection Agency, Region 5, 77 West Jackson Boulevard, Chicago, Illinois 60604, (312) 353-6680, leslie.michael@epa.gov.

SUPPLEMENTARY INFORMATION: Throughout this document, whenever “we”, “us” or “our” is used, we mean EPA.

Background

Today's notice is an announcement of a finding that we have already made. On September 6, 2017, EPA sent a letter to the Wisconsin Department of Natural Resources stating that the 2017 and 2018 MVEBs contained in the Attainment Demonstration for Kenosha County in Wisconsin are adequate for transportation conformity purposes. Receipt of these MVEBs was announced on EPA's transportation conformity Web site, and no comments were submitted. The finding is available at EPA's conformity Web site: https://www.epa.gov/state-and-local-transportation/adequacy-review-state-implementation-plan-sip-submissions-conformity.

The 2017 and 2018 MVEBs, in tons per day (tpd), for VOCs and NOX for the Kenosha County, Wisconsin area are as follows:

Kenosha County | NOX (tpd) | VOCs (tpd)
2017 | 3.05 | 1.56
2018 | 2.75 | 1.44

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). Please note that an adequacy review is separate from EPA's completeness review, and it also should not be used to prejudge EPA's ultimate approval of the SIP. Even if we find a budget adequate, the SIP could later be disapproved.

Authority: 42 U.S.C. 7401-7671 q.

Dated: October 17, 2017.
Robert A. Kaplan,
Acting Regional Administrator, Region 5.

[FR Doc. 2017-23685 Filed 10-30-17; 8:45 am]

BILLING CODE 6560-50-P